DEPARTMENT OF TRANSPORTATION

Coast Guard

33 CFR Part 117

[CGD01-02-017]

Drawbridge Operation Regulations: Norwalk River, CT

AGENCY: Coast Guard, DOT.

ACTION: Notice of temporary deviation from regulations.

SUMMARY: The Commander, First Coast Guard District, has issued a temporary deviation from the drawbridge operation regulations for the Washington Street S136 Bridge, mile 0.0, across the Norwalk River at Norwalk, Connecticut. This temporary deviation will allow the bridge to open only one of the two draw spans for bridge openings from 8 a.m. February 26, 2002 through 4 p.m. February 28, 2002. This temporary deviation is necessary to facilitate mechanical repairs at the bridge.

DATES: This deviation is effective from February 26, 2002 through February 28, 2002.

FOR FURTHER INFORMATION CONTACT: Joseph Schmied, Project Officer, First Coast Guard District, at (212) 668-7195.

SUPPLEMENTARY INFORMATION: The Washington Street S136 Bridge has a vertical clearance in the closed position of 9 feet at mean high water and 16 feet at mean low water. The existing regulations are listed at 33 CFR 117.217.

The bridge owner, Connecticut Department of Transportation (CONNDOT), has requested a temporary deviation from the drawbridge operating regulations to facilitate necessary mechanical maintenance, speed reducer repairs on the east lift span, at the bridge. The nature of the required repairs will require one of the two opening spans (east span) to remain in the closed position during the mechanical repairs.

During this deviation the bridge will open only one span (west span) for bridge openings from 8 a.m. on February 26, 2002 through 4 p.m. on February 28, 2002.

This deviation from the operating regulations is authorized under 33 CFR 117.35, and will be performed with all due speed in order to return the bridge to normal operation as soon as possible.

Dated: February 15, 2002.
G.N. Naccara,
Rear Admiral, U.S. Coast Guard, Commander, First Coast Guard District.

[FR Doc. 02-4713 Filed 2-27-02; 8:45 am]

BILLING CODE 4910-15-U